DEPARTMENT OF COMMERCE

[Docket No. 100226117-0125-01]

Privacy Act of 1974; Altered System of Records

AGENCY: U.S. Census Bureau, Department of Commerce.

ACTION: Notice of Amendment, Privacy Act System of Records; COMMERCE/CENSUS-10 and 5, combining the American Community Survey, and the Population and Housing Census Records of the 2000 Census Including Preliminary Statistics for the 2010 Decennial Census, into the COMMERCE/CENSUS-5, Decennial Census Program.

SUMMARY: In accordance with the Privacy Act of 1974, as amended, Title 5 United States Code (U.S.C.) 552A(e)(4) and (11); and Office of Management and Budget (OMB) Circular A-130, Appendix I, “Federal Agency Responsibilities for Maintaining Records About Individuals,” the Department of Commerce is issuing notice of intent to update the system of records titled COMMERCE/CENSUS-5, Population and Housing Census Records of the 2000 Census Including Preliminary Statistics for the 2010 Decennial Census, by combining the system of records under COMMERCE/CENSUS-10 American Community Survey with the updated COMMERCE/CENSUS-5 Population and Housing Census Records of the 2000 Census Including Preliminary Statistics for the 2010 Decennial Census system and renaming the newly combined system notice to COMMERCE/CENSUS-5, Decennial Census Program. Accordingly, the COMMERCE/CENSUS-5, Population and Housing Census Records of the 2000 Census Including Preliminary Statistics for the 2010 Decennial Census system notice published in the Federal Register on February 21, 2006 (71 FR 8839) is amended as below. The system of records entitled COMMERCE/CENSUS-10, American Community Survey, published in the Federal Register on January 17, 2007 (72 FR1979), will be abolished upon final publication of the Federal Register notice for the newly amended and renamed system of records entitled COMMERCE/CENSUS-5, Decennial Census Program. We invite public comment on the system amendment announced in this publication.

DATES: Comment Date: To be considered, written comments on the proposed amended system must be submitted on or before April 19, 2010.

Effective Date: Unless comments dictate otherwise, the amendments will become effective as proposed on the date of publication of a subsequent notice in the Federal Register.

ADDRESSES: Please address comments to: Chief Privacy Officer, Privacy Office, Room HQ-8H168, U.S. Census Bureau, Washington, DC 20233-3700.

SUPPLEMENTARY INFORMATION: Delete and replace with the following language: “This amendment combines two systems into one, thereby integrating the mandatory data collections required for the decennial census program. This includes the detailed characteristics information now collected on an ongoing basis by the American Community Survey as well as the decennial collection of the basic characteristics information required for apportionment and redistricting counts. Therefore, this amendment updates the purpose of the system, categories of records in the system, policies and practices for retrieving, retaining, and disposing of records in the system, and other administrative information. This system is renamed “Decennial Census Program” and includes the information collected by the American Community Survey, as well as information collected during the Decennial Census of Population and Housing. The American Community Survey is an ongoing survey with an annual sample of approximately 3 million residential addresses in the U.S.; approximately 36,000 residential addresses in Puerto Rico; approximately 20,000 group quarters facilities in the U.S.; and approximately 100 group quarters facilities in Puerto Rico. The Decennial Census of Population and Housing is one of the few federal activities for which authority rests in the Constitution (Article 1, Section 2). Decennial census data collection processes touch the lives of every person in the United States. Decennial census data products provide the basis for apportioning among the states the seats in the U.S. House of Representatives, for developing the districts that members of Congress, state legislators, and other elected individuals represent, for the distribution of billions of dollars each year to governmental entities at all levels, and for untold numbers of governmental and business decisions.

As an example of the scope of the Decennial Census of Population and Housing, in 2010, the Census Bureau will be contacting over 130 million addresses in order to enumerate over 300 million people in an increasingly more complex demographic and technological environment. The Census Bureau conducts a census of population and housing, and disseminates the data to the President, the states, and to the American people. The 2010 Census will cover the 50 states, the District of Columbia, Puerto Rico, the U.S. Virgin Islands, the Commonwealth of the Northern Mariana Islands, Guam, the Pacific Island Area of American Samoa, and Federally-Affiliated Americans Overseas. The Census Day for the 2010 Census will be April 1, 2010, have a boundary reference date of January 1, 2010, apportionment counts will be delivered to the President by December 31, 2010, and redistricting counts will be delivered to the states by April 1, 2011.”

COMMERCE/CENSUS-5

System Name:

Delete and replace with the following language: “COMMERCE/CENSUS-5, Decennial Census Program”

Security Classification:

None.

System Location:

Delete and replace with the following language: “U.S. Census Bureau, 4600 Silver Hill Road, Washington, DC 20233-8100; Bureau of the Census, Bowie Computer Center, 17101 Medford Boulevard, Bowie, Maryland 20715.”

Categories of Individuals Covered by the System:

Delete and replace with the following language: “All persons surveyed during the ongoing American Community Survey and all persons counted during the Decennial Census of Population and Housing as well as all persons counted in any pilot census tests of procedures related to the American Community Survey and the Decennial Census of Population and Housing are covered by the system. Participation in the decennial censuses (the American Community Survey and the Decennial Census of Population and Housing) as well as all of the pilot censuses is mandatory.”

Categories of Records in the System:

Delete and replace with the following language: “Records collected by the American Community Survey and its pilot censuses obtain population information such as name, address, telephone number, age, sex, race, Hispanic origin, relationships, housing tenure, number of persons in the household, as well as more detailed information on topics such as, marital status and history, fertility, income, employment, education, health insurance or health coverage plans, disability, grandparents as care-givers, and military status and history. In addition, the American Community Survey and its pilot censuses contain housing information on topics such as year built, structure description, uses, features, amenities, and number of rooms, utilities, purchase type (e.g. mortgage or deed of trust), and financial characteristics (e.g. home value, property taxes, etc.).

Records collected during the Decennial Census of Population and Housing contain population information such as name, address, telephone number, age, sex, race, Hispanic origin, relationship, housing tenure, number of persons in the household, number of persons in the household not permanent residents, and whether residents sometimes live somewhere else.

In accordance with 13 U.S.C., Section 6(c), information in the American Community Survey and Decennial Census of Population and Housing may also come from administrative records from federal, states, counties, cities, or other units of government, or from private persons and agencies. For instance, external sources used for information include: the U.S. Department of Defense and the U.S. Office of Personal Management for enumeration of federally affiliated Americans overseas; tribal, State, and local governments for service-based enumeration of persons without permanent shelter; and the U.S. Postal Service for address and road updates.

Pilot census records may contain information similar to that included in the American Community Survey and Decennial Census of Population and Housing.”

Authorities for Maintenance of the System:

Delete and replace with the following language: “13 U.S.C., Sections 141 and 193.”

Purpose(s):

Delete and replace with the following language: “The purpose of this system is to collect statistical information from respondents for the Decennial Census Program, which includes both the American Community Survey and the Decennial Census of Population and Housing, in order to provide key infrastructure data for the nation. The American Community Survey, the Decennial Census of Population and Housing, and pilot census records are maintained to conduct research and analysis with survey and administrative data for projects as authorized by Title 13 of the U.S.C., Sections 141 and 193 and the U.S. Census Bureau; and to undertake methodological evaluations and enhancements leading to improved data collection and quality control studies. Also, information collected by the Decennial Census of Population and Housing is used to provide official census transcripts of the results to the named person(s), their heirs, or legal representatives as authorized by Title 13 of the U.S.C., Section 8 as described in the system of records notice COMMERCE/CENSUS-6, Population Census Personal Service Records for 1910 and All Subsequent Decennial Censuses (this does not apply to the American Community Survey and pilot census records).”

Routine Uses of Records Maintained in the System, Including Categories of Users and the Purposes of Such Uses:

Delete and replace with the following language: “These records are maintained and used solely for statistical purposes and are confidential under Title 13 of the U.S.C., Sections 9 and 214. Publications do not contain data that could identify any particular household or individual.”

Disclosure to Consumer Reporting Agencies:

Delete and replace with the following language: “None.”

Policies and Practices for Storing, Retrieving, Accessing, Retaining, and Disposing of Records in the System:

Storage:

Delete and replace with the following language: “Records will be stored in a secure computerized system and on magnetic media; output data will be either electronic or paper copies. Source data sets containing personal identifiers will be maintained in a secure restricted-access environment.”

Retrievability:

Delete and replace with the following language: “Information for the Decennial Census of Population and Housing and for the American Community Survey may be retrieved by name and address. Additionally, information may be retrieved only by authorized access and in accordance with other security controls.”

Safeguards:

Delete and replace with the following language: “The U.S. Census Bureau is committed to respecting respondent privacy and protecting confidentiality. Through the Data Stewardship Program, we have implemented management, operational, and technical controls and practices to ensure high-level data protection to respondents of our census and surveys: (1) All U.S. Census Bureau sworn individuals are subject to the restrictions, penalties, and prohibitions of Title 13 of the U.S.C., and all employees are annually certified through training concerning confidentiality of data; (2) data sets released by the U.S. Census Bureau have been subjected to and have successfully met criteria established by an internal Disclosure Review Board to ensure no personally identifiable data are released; (3) an unauthorized browsing policy protects respondent information from casual or inappropriate use by any person with access to Title 13 protected data; (4) all computer systems that maintain sensitive information are in compliance with the Federal Information Security Management Act, which includes auditing and controls over access to restricted data; and (5) paper copies that contain sensitive information are stored in secure facilities in a locked drawer or file cabinet behind a locked door.”

Retention and Disposal:

Delete and replace with the following language: “American Community Survey, Decennial Census of Population and Housing, and pilot census respondent data, including personally identifying data, are captured as images suitable for computer processing. Original data sources are destroyed, according to the disposal procedures for Title 13 records, after confirmation of successful data capture and data transmission to U.S. Census Bureau headquarters. For the American Community Survey, personally identifying data are scheduled for permanent retention. For the Decennial Census of Population and Housing, a unified record of individual response, including all names and other written entries provided by the respondent, and all associated address and geographic information for each housing unit or person living in group quarters is scheduled for permanent retention to meet the National Archives and Records Administration (NARA) archiving requirements. Pilot data collections, data capture, and data processing records are destroyed within two years or when no longer needed for program or evaluation purposes, whichever is later. These requirements are laid out in the Records Schedule established in conjunction with NARA (Title 44, U.S.C., Section 2108).

System Manager and Address:

Delete and replace with the following language: “Associate Director for Decennial Census, U.S. Census Bureau, 4600 Silver Hill Road, Washington, DC 20233-8000.”

Notification Procedure:

Delete and replace with the following language: “None.”

Record Access Procedures:

Delete and replace with the following language: “None.”

Contesting Record Procedures:

Delete and replace with the following language: “None.”

Record Source Categories:

Delete and replace with the following language: “Individuals covered by selected administrative records systems and Census Bureau censuses and surveys.”

Exemptions Claimed for System:

Delete and replace with the following language: “Pursuant to 5 U.S.C. 552a (k)(4), this system of records is exempted from the notification, access, and contest requirements of the agency procedures (under 5 U.S.C. 552a (c)(3), (d), (e)(1), (e)(4)(G), (H) and (I) and (f)). This exemption is applicable because the data are maintained by the U.S. Census Bureau solely as statistical records, as required under Title 13 U.S.C., and are not used in whole or in part in making any determination about an identifiable individual. This exemption is made in accordance with the Department's rules which appear in 15 CFR part 4 subpart B and in accordance with agency rules published in the rules section of this Federal Register.”

Dated: March 12, 2010.
Brenda Dolan,
Department of Commerce, Freedom of Information/Privacy Act Officer.

[FR Doc. 2010-5943 Filed 3-17-10; 8:45 am]

BILLING CODE 3510-07-P